DEPARTMENT OF TRANSPORTATION

Federal Highway Administration

23 CFR Part 924

[FHWA Docket No. FHWA-2013-0019]

RIN 2125-AF56

Highway Safety Improvement Program

AGENCY: Federal Highway Administration (FHWA), DOT.

ACTION: Notice of proposed rulemaking; extension of comment period.

SUMMARY: The FHWA is extending the comment period for a notice of proposed rulemaking (NPRM) and request for comments, which was published on March 28, 2014. The original comment period is set to close on May 27, 2014. The extension is based on concern expressed by the American Association of State Highway and Transportation Officials (AASHTO) that the May 27 closing date does not provide sufficient time to review and provide comprehensive comments on the HSIP NPRM, considering all related rulemaking activities including the FHWA/FTA Statewide and Nonmetropolitan Transportation Planning; Metropolitan Transportation Planning NPRM (FHWA RIN 2125-AF52; FTA RIN 2132-AB10). The FHWA recognizes that others interested in commenting may have similar concerns and agrees that the comment period should be extended. Therefore, the closing date for comments is changed to June 30, 2014, which will provide AASHTO and others interested in commenting additional time to discuss, evaluate, and submit responses to the docket.

DATES: The comment period on the proposed rule published March 28, 2014 (79 FR 17464), is extended. Comments must be received on or before June 30, 2014.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: Ms. Karen Scurry, Office of Safety, karen.scurry@dot.gov; or William Winne, Office of the Chief Counsel, william.winne@dot.gov, Federal Highway Administration, 1200 New Jersey Ave. SE., Washington, DC 20590. Office hours are from 8:00 a.m. to 4:30 p.m., e.t., Monday through Friday, except Federal holidays.

SUPPLEMENTARY INFORMATION:

Electronic Access and Filing

You may submit or access all comments received by the DOT online through: http://www.regulations.gov. Electronic submission and retrieval help and guidelines are available on the Web site. It is available 24 hours each day, 365 days each year. Please follow the instructions. An electronic copy of this document may also be downloaded from the Federal Register's home page at: http://www.federalregister.gov.

Background

On March 28, 2014, the FHWA published in the Federal Register a NPRM proposing changes to 23 CFR part 924, the regulations for the Highway Safety Improvement Program. The NPRM proposed to address provisions in the Moving Ahead for Progress in the 21st Century Act (MAP-21) as well as to incorporate clarifications to better explain existing regulatory language. Specifically, the rule proposes to amend DOT's regulations to address MAP-21 provisions that removed the requirement for States to prepare a Transparency Report, removed the High Risk Rural Roads set-aside, and removed the 10 percent flexibility provision for States to use safety funding in accordance with 23 U.S.C. 148(e). This NPRM also proposes to amend DOT's regulations to address a MAP-21 provision that requires DOT to establish a subset of roadway data elements that are useful to the inventory of roadway safety, and to ensure that States adopt and use the subset. Finally, this NPRM proposes to address MAP-21 provisions that add State Strategic Highway Safety Plan update requirements and require States to report HSIP performance targets.

The original comment period for the NPRM closes on May 27, 2014. The AASHTO has expressed concern that this closing date does not provide sufficient time to review and provide comprehensive comments on the related FHWA/FTA Statewide and Nonmetropolitan Transportation Planning; Metropolitan Transportation Planning NPRM (FHWA RIN 2125-AF52; FTA RIN 2132-AB10). The FHWA recognizes that others interested in commenting may have similar concerns and agrees that the comment period should be extended. To allow time for this organization and others to submit comprehensive comments, the closing date is changed from May 27, 2014, to June 30, 2014.

Authority: 23 U.S.C. 104(b)(3), 130, 148, and 315; 49 CFR 1.85.

Issued on: May 21, 2014.
Gregory G. Nadeau,
Deputy Administrator, Federal Highway Administration.

[FR Doc. 2014-12153 Filed 5-27-14; 8:45 am]

BILLING CODE 4910-22-P